DEPARTMENT OF HEALTH AND HUMAN SERVICES

Centers for Medicare and Medicaid Services

[Document Identifier: CMS-367, a, b, and c; CMS-R-38, CMS-566, CMS-10077, and CMS-10072]

Agency Information Collection Activities: Submission for OMB Review; Comment Request

AGENCY: Centers for Medicare and Medicaid Services, HHS.

In compliance with the requirement of section 3506(c)(2)(A) of the Paperwork Reduction Act of 1995, the Centers for Medicare and Medicaid Services (CMS) (formerly known as the Health Care Financing Administration (HCFA), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of a currently approved collection; Title of Information Collection: Medicaid Drug Rebate Program—Manufacturers; Form No.: CMS-367a,b,c (OMB# 0938-0578); Use: Section 1927 requires drug manufacturers to enter into and have in effect a rebate agreement with the Federal Government for States to receive funding for drugs dispensed to Medicaid recipients; Frequency: Quarterly; Affected Public: Business or other for-profit; Number of Respondents: 570; Total Annual Responses: 2,280; Total Annual Hours: 54,780.

2. Type of Information Collection Request: Extension of a currently approved collection; Title of Information Collection: Conditions for Coverage for Rural Health Clinics—42 CFR 491.9 Subpart A; Form No.: CMS-R-38 (OMB #0938-0334); Use: This information is needed to determine if rural health clinics meet the requirements for approval for Medicare Participation.; Frequency: Initial Application for Medicare approval; Affected Public: Business or other for-profit, State, Local, or Tribal Gov't., and not-for-profit institutions, Individuals or households, Farms, and Federal Government; Number of Respondents: 3,305; Total Annual Responses: 3,305; Total Annual Hours: 8,580.

3. Type of Information Collection Request: Extension of a currently approved collection; Title of Information Collection: Medicare Managed Care Disenrollment Form; Form No.: CMS-566 (0938-0507); Use: This form provides Medicare beneficiaries the option to disenroll from their Medicare managed care plan through a neutral third party. CMS and SSA have established an agreement via a formal Memorandum of Understanding for SSA to process beneficiary disenrollments from Medicare managed care plans. Prior to 1999, the Social Security Act provided Medicare beneficiaries enrolled in Medicare managed care plans with the option of disenrolling from the plan at a Social Security Field Office; however, Section 4001 of the Balanced Budget Act of 1997 amended the Social Security Act, removing this requirement from the statute; Frequency: On Occasion; Affected Public: Individuals or Households, Business or other for-profit, Not-for-profit institutions, and Federal Government; Number of Respondents: 85,000; Total Annual Responses: 85,000; Total Annual Hours: 2,805.

4. Type of Information Collection Request: New Collection; Title of Information Collection: “Medicare Decisions and Your Rights”; Form No.: CMS-10077 (OMB# 0938-NEW); Use Pursuant to 42 CFR 422.568 (c), M+C practitioners must deliver notices to enrollees informing them of their right to obtain a detailed notice regarding services from their M+C organizations. This notice fulfills the regulatory requirement.; Frequency: Other (distribution); Affected Public: Individuals or Households, Business or other for-profit, Not-for-profit institutions, Federal Government; Number of Respondents: 155; Total Annual Responses: 5,000,000; Total Annual Hours: 83,333.

5. Type of Information Collection Request: New Collection; Title of Information Collection: MSInteractive Survey Tool for cms.hhs.gov; Form No.: CMS-10072 (OMB# 0938-NEW); Use CMS has developed a survey tool using MSInteractive to obtain feedback from users accessing cms.hhs.gov website to guide future improvements; Frequency: on occasion; Affected Public: Individuals or Households, Business or other for-profit; Number of Respondents: 7000; Total Annual Responses: 7000; Total Annual Hours: 583.

To obtain copies of the supporting statement and any related forms for the proposed paperwork collections referenced above, access CMS Web site address at http://cms.hhs.gov/regulations/pra/default.asp, or E-mail your request, including your address, phone number, OMB number, and CMS document identifier, to Paperwork@cms.hhs.gov, or call the Reports Clearance Office on (410) 786-1326. Written comments and recommendations for the proposed information collections must be mailed within 30 days of this notice directly to the OMB desk officer: OMB Human Resources and Housing Branch, Attention: Brenda Aguilar, New Executive Office Building, Room 10235, Washington, DC 20503, Fax Number: (202) 395-6974.

Dated: May 22, 2003.
Dawn Willinghan,
CMS Reports Clearance Officer, Division of Regulations Development and Issuances, Office of Strategic Operations and Regulatory Affairs.

[FR Doc. 03-13666 Filed 5-30-03; 8:45 am]

BILLING CODE 4120-03-P